DEPARTMENT OF HOUSING AND URBAN DEVELOPMENT

[Docket No. FR-5037-N-08]

Notice of Submission of Proposed Information Collection to OMB; Universities Rebuilding America Partnerships: Community Design Program

AGENCY: Office of the Chief Information Officer, HUD.

ACTION: Notice.

SUMMARY: The proposed information collection requirement described below has been submitted to the Office of Management and Budget (OMB) for review, as required by the Paperwork Reduction Act. The Department is soliciting public comments on the subject proposal.

Information provided will allow public or private accredited nonprofit institutions of higher education granting associate degrees or higher in architecture, urban planning and design, or construction to establish and operate partnerships with and for communities affect by Hurricanes Katrina or Rita or both. Information will enable HUD to select a grantee under a competitive selection process.

DATES: Comments Due Date: March 23, 2006.

ADDRESSES: Interested persons are invited to submit comments regarding this proposal. Comments should refer to the proposal by name and/or OMB approval Number (2528-0241) and should be sent to: HUD Desk Officer, Office of Management and Budget, New Executive Office Building, Washington, DC 20503; fax: 202-395-6974.

FOR FURTHER INFORMATION CONTACT: Lillian Deitzer, Reports Management Officer, AYO, Department of Housing and Urban Development, 451 Seventh Street, SW., Washington, DC 20410; e-mail Lillian Deitzer at Lillian_L_Deitzer@HUD.gov or telephone (202) 708-2374. This is not a toll-free number. Copies of available documents submitted to OMB may be obtained from Ms. Deitzer.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Universities Rebuilding America Partnerships: Community Design Program.

OMB Approval Number: 2528-0241.

Form Numbers: SF-424, SF-424-Supplement, HUD-424-CB, SF-LLL, HUD-27300, HUD-2880, HUD-96010.

Description of the Need for the Information and Its Proposed Use: Information provided will allow public or private accredited nonprofit institutions of higher education granting associate degrees or higher in architecture, urban planning and design, or construction to establish and operate partnerships will and for communities affect by Hurricanes Katrina or Rita or both. Information will enable HUD to select a grantee under a competitive selection process.

Frequency of Submission: Semi-annually, Annually.

Reporting Burden
| Number of respondents | × | Annual responses | × | Hours per response | = | Burden hours
Reporting Burden | 20 |  | 2.5 |  | 44.8 |  | 2,240

Total Estimated Burden Hours: 2,240.

Status: Extension of a currently approved collection.

Authority: Section 3507 of the Paperwork Reduction Act of 1995, 44 U.S.C. 35, as amended.

Dated: February 13, 2006.
Lillian L. Deitzer,
Departmental Paperwork Reduction Act Officer, Office of the Chief Information Officer.

[FR Doc. E6-2358 Filed 2-17-06; 8:45 am]

BILLING CODE 4210-67-P